FEDERAL ACQUISITION REGULATION

48 CFR Part 19

Small Business Programs

CFR Correction

In Title 48 of the Code of Federal Regulations, Chapter 1 (Parts 1 to 51), revised as of Oct. 1, 2000, in part 19, § 19.101 is corrected by moving paragraph (g)(5) which appears at the end of the section on page 328, and inserting it above “Annual receipts” on page 327.

[FR Doc. C1-55505 Filed 3-7-01; 8:45 am]

BILLING CODE 1505-01-D